DEPARTMENT OF HEALTH AND HUMAN SERVICES

National Institutes of Health

National Cancer Institute; Amended Notice of Meeting

Notice is hereby given of a change in the meeting of the National Cancer Institute Special Emphasis Panel, SEP-4: NCI Clinical and Translational Cancer Research, February 04, 2025, 10 a.m. to February 05, 2025, 7 p.m., National Cancer Institute Shady Grove, 9609 Medical Center Drive, Room 7W264, Rockville, Maryland, 20850 which was published in the Federal Register on November 14, 2024, FR Doc 2024-26497, 89 FR 90021.

This notice is being amended to change the meeting end time on February 05, 2025, from 7 p.m. to 2 p.m. The meeting is now, February 04, 2025, 10 a.m. to February 05, 2025, 2 p.m. The meeting dates, format, and location will stay the same. The meeting is closed to the public.

Dated: December 16, 2024.
David W. Freeman,
Supervisory Program Analyst, Office of Federal Advisory Committee Policy.

[FR Doc. 2024-30313 Filed 12-18-24; 8:45 am]

BILLING CODE 4140-01-P